DEPARTMENT OF JUSTICE

Notice of Lodging of Consent Decree Under the Comprehensive Environmental Response, Compensation and Liability Act

Notice is hereby given that on March 31, 2011, a proposed Amendment to Consent Decree was lodged with the United States District Court for the Northern District of Illinois in United States v. City of Waukegan, et al., Civil Action No. 04C 5172.

Under a consent decree previously entered by the district court in this action under Sections 106 and 107 of the Comprehensive Environmental Response, Compensation and Liability Act, as amended (“CERCLA”), 42 U.S.C. 9606 and 9607, the former General Motors Corporation, now known as Motors Liquidation Company (“GM”), was one of two Performing Settling Defendants responsible for implementing a remedial action to address releases and threatened releases of hazardous substances at and from the Waukegan Manufactured Gas and Coke Plant Site (the “Site”) in Waukegan, Illinois. Pursuant to financial assurance requirements of the consent decree, GM obtained a performance bond from Westchester Fire Insurance Company (“Westchester”). After filing for bankruptcy in 2009, GM stopped participating in implementation of the remedial action at the Site.

Under the proposed Amendment to Consent Decree, Westchester will become a party to the consent decree and become responsible for financing implementation of the remedial action at the Site, up to a $10.5 million limit that corresponds to the outstanding amount of the original performance bond issued by Westchester. Westchester's obligations will include: (1) Reimbursing 50 percent of the response costs incurred by North Shore Gas Company (the other Performing Settling Defendant) between June 1, 2009, when GM stopped participating in implementation of the consent decree, and the effective date of the Amendment to Consent Decree; (2) monthly reimbursement of 50 percent of the ongoing remedial costs incurred by North Shore Gas Company after the effective date of the Amendment to Consent Decree; (3) acceleration of remaining payments (up to the $10.5 million limit on total Westchester payments) in accordance with instructions to be provided by EPA, in the event that EPA takes over implementation of any Work, pursuant to provisions of the previously entered consent decree. In addition, to guarantee performance of its obligations under the proposed Amendment to Consent Decree, Westchester will establish a trust for the benefit of EPA, and maintain a trust balance that is equal to its outstanding liability relating to the Site.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. City of Waukegan, et. al., DJ # 90-11-3-07051.

The Consent Decree may be examined at the Office of the United States Attorney, Northern District of Illinois, 219 South Dearborn St., Chicago, Illinois 60604, and at U.S. EPA Region 5, 77 W. Jackson Blvd., Chicago, IL 60604. During the public comment period, the Consent Decree may also be examined on the following Department of Justice Web site, http://www.usdoj.gov/enrd/Consent_Decrees.html. A copy of the Consent Decrees may also be obtained by mail from the Consent Decree Library, U.S. Department of Justice, P.O. Box 7611, Washington, DC 20044-7611 or by faxing or e-mailing a request to Tonia Fleetwood (tonia.fleetwood@usdoj.gov), fax number (202) 514-0097, phone confirmation number (202) 514-1547. In requesting a copy of the Consent Decree from the Consent Decree Library, please enclose a check in the amount of $8.50 (25 cents per page reproduction cost) payable to the U.S. Treasury or, if by e-mail or fax, forward a check in that amount to the Consent Decree Library at the stated address.

Maureen M. Katz,
Assistant Chief, Environmental Enforcement Section, Environment and Natural Resources Division, United States Department of Justice.

[FR Doc. 2011-8709 Filed 4-11-11; 8:45 am]

BILLING CODE 4410-15-P